DEPARTMENT OF TRANSPORTATION

Federal Aviation Administration

14 CFR Part 39

[Docket No. FAA-2005-22959; Directorate Identifier 2005-NE-40-AD; Amendment 39-14856; AD 2006-25-15]

RIN 2120-AA64

Airworthiness Directives; Sicma Aero Seat; Third Occupant Seat Assemblies, 133 Series

AGENCY: Federal Aviation Administration (FAA), Department of Transportation (DOT).

ACTION: Final rule.

SUMMARY: The FAA is adopting a new airworthiness directive (AD) for Sicma Aero Seat third occupant seat assemblies, 133 series. This AD requires visually inspecting the installation of the two headrest bushings and installing Mecanindus pins to secure the bushings. This AD results from Sicma's determination that missing or incorrectly secured bushings could loosen and cause disengagement of the headrest from the seat during a high-energy stop of the airplane, possibly injuring the seat occupant. We are issuing this AD to prevent disengagement of the headrest from the seat during a high-energy stop of the airplane that could injure the seat occupant.

DATES: This AD becomes effective January 19, 2007. The Director of the Federal Register approved the incorporation by reference of certain publications listed in the regulations as of January 19, 2007.

ADDRESSES: You can get the service information identified in this AD from Sicma Aero Seat, 7 Rue Lucien Coupet, 36100 Issoudun, France, telephone: (33) 54 03 39 39; fax: (33) 54 03 15 16.

You may examine the AD docket on the Internet at http://dms.dot.gov or in Room PL-401 on the plaza level of the Nassif Building, 400 Seventh Street, SW., Washington, DC.

FOR FURTHER INFORMATION CONTACT: Jeffrey Lee, Aerospace Engineer, Boston Aircraft Certification Office, FAA, Engine and Propeller Directorate, FAA, 12 New England Executive Park, Burlington, MA 01803; telephone (781) 238-7161; fax (781) 238-7170.

SUPPLEMENTARY INFORMATION: The FAA proposed to amend 14 CFR part 39 with a proposed AD. The proposed AD applies to Sicma Aero Seat third occupant seat assemblies, 133 series. We published the proposed AD in the Federal Register on March 1, 2006 (71 FR 10453). That action proposed to require visually inspecting the installation of the two headrest bushings and installing Mecanindus pins to secure the bushings.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We have considered the comments received.

Request To Change Compliance Requirement

Air Transport Association and Northwest Airlines request that the compliance requirement of “within 30 days” be changed to “within 90 days”. This will allow AD compliance in conjunction with operators' current A-Check interval. We agree and changed the AD to “within 90 days”.

Labor Time Information Does Not Match the Sicma Aero Seat Service Bulletin

Air Transport Association and Northwest Airlines state that the estimated labor time information in the proposed AD does not match the manpower estimate in Sicma Aero Seat Service Bulletin (SB) No. 133-25-006, dated May 12, 1999. We agree that the AD estimate for doing the work needs to match the SB. We changed the labor time in the AD to 0.17 work-hour (10 minutes) per seat.

Seat Part Numbers Do Not Match

Air Transport Association and Northwest Airlines state that the seat part numbers (P/Ns) in the proposed AD do not match those in Sicma Aero Seat SB No. 133-25-006, dated May 12, 1999. We partially agree. We corrected the P/Ns to 1330622-070, 1330622-070-1, 1330622-070-2, 1330622-100, and 1330622V100-1 in the AD. These are the same listed P/Ns affected as those identified by the Direction Generale de L'Aviation Civile, which is the airworthiness authority of France.

Question on Serial Numbers

Air Transport Association and Northwest Airlines question why the serial numbers (SNs) in the proposed AD are specific, whereas there are no specific SNs listed in the SB. We listed the same SNs as those identified by the Direction Generale de L'Aviation Civile, which is the airworthiness authority for France. They correctly identified the SNs affected, in their AD No. 2000-042(AB). We did not change the AD.

Conclusion

We have carefully reviewed the available data, including the comments received, and determined that air safety and the public interest require adopting the AD with the changes described previously. We have determined that these changes will neither increase the economic burden on any operator nor increase the scope of the AD.

Costs of Compliance

There are about 459 Sicma Aero Seat third occupant seat assemblies, 133 series, of the affected design installed on airplanes of U.S. registry. There are about 698 airplanes of U.S. registry that these seats can be installed on. We estimate that it will take about 0.17 work-hour per seat assembly to perform the actions, and that the average labor rate is $65 per work-hour. The Mecanindus pins cost $99.88 each, however, Sicma Aero Seat has advised us that they will supply the parts at no cost. Based on the labor rate to install the parts, the total cost of the AD to U.S. operators will be about $5,072.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2006-25-15 Sicma Aero Seat: Amendment 39-14856. Docket No. FAA-2005-22959; Directorate Identifier 2005-NE-40-AD.

Effective Date

(a) This airworthiness directive (AD) becomes effective January 19, 2007.

Affected ADs

(b) None.

Applicability

(c) This AD applies to Sicma Aero Seat third occupant seat assemblies, 133 series, with the part numbers (P/Ns) and serial numbers (SNs) in the following Table 1:

Table 1.—Applicable Seat Assemblies
Seat P/N | Seat SN
1330622-070 | 1 through 212.
1330622-070-1 | 1 through 212.
1330622-070-2 | 1 through 6.
1330622-100 | 1 through 13.
1330622V100-1 | 1 through 16.

These third occupant seats are installed on, but not limited to, Airbus A319, A320, and A321 series airplanes.

Unsafe Condition

(d) This AD results from Sicma's determination that missing or incorrectly secured bushings could loosen and cause disengagement of the headrest from the seat during a high-energy stop of the airplane, possibly injuring the seat occupant. We are issuing this AD to prevent disengagement of the headrest from the seat during a high-energy stop of the airplane that could injure the seat occupant.

Compliance

(e) You are responsible for having the actions required by this AD performed within the compliance times specified unless the actions have already been done.

Installing Protective Fairings

(f) Within 90 days after the effective date of this AD, visually check the installation of the two headrest bushings and install Mecanindus pins, P/N GPMECAE2-5x5, to secure the bushings. Use the instructions in paragraph 2 of Sicma Aero Seat Service Bulletin No. 133-25-006, dated May 12, 1999, to perform the visual inspection and install the pins.

Alternative Methods of Compliance

(g) The Manager, Boston Aircraft Certification Office, has the authority to approve alternative methods of compliance for this AD if requested using the procedures found in 14 CFR 39.19.

Related Information

(h) Direction Generale de L'Aviation Civile airworthiness directive 2000-042(AB), dated January 26, 2000, also addresses the subject of this AD.

Material Incorporated by Reference

(i) You must use Sicma Aero Seat Service Bulletin No. 133-25-006, dated May 12, 1999, to perform the actions required by this AD. The Director of the Federal Register approved the incorporation by reference of this service bulletin in accordance with 5 U.S.C. 552(a) and 1 CFR part 51. Contact Sicma Aero Seat, 7 Rue Lucien Coupet, 36100 Issoudun, France, telephone: (33) 54 03 39 39; fax: (33) 54 03 15 16, for a copy of this service information. You may review copies at the National Archives and Records Administration (NARA). For information on the availability of this material at NARA, call 202-741-6030, or go to: http://www.archives.gov/federal-register/cfr/ibr-locations.html.

Issued in Burlington, Massachusetts, on December 7, 2006.
Robert J. Ganley,
Acting Manager, Engine and Propeller Directorate, Aircraft Certification Service.

[FR Doc. E6-21186 Filed 12-14-06; 8:45 am]

BILLING CODE 4910-13-P